DEPARTMENT OF LABOR

Employment and Training Administration

[TA-W-64,401]

Qimonda 200MM Facility, Including On-Site Leased Workers From Tokyo Electron America, Nikon Precision, Inc., and Ebara Technologies, Inc., Sandston, VA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility To Apply for Worker Adjustment Assistance and Alternative Trade Adjustment Assistance on December 11, 2008, applicable to workers of Qimonda 200MM Facility, Sandston, Virginia. The notice was published in the Federal Register on December 30, 2008 (73 FR 79914).

At the request of the State agency, the Department reviewed the certification for workers of the subject firm. The workers are engaged in the production of DRAM semiconductor wafers.

New information shows that workers leased from Ebara Technologies, Inc., were employed on-site at the Sandston, Virginia location of Qimonda 200MM Facility. The Department has determined that these workers were sufficiently under the control of Qimonda 200MM Facility to be considered leased workers.

Based on these findings, the Department is amending this certification to include workers leased from Ebara Technologies, Inc., working on-site at the Sandston, Virginia location of the subject firm.

The intent of the Department's certification is to include all workers employed at Qimonda 200MM Facility, Sandston, Virginia who were adversely affected by a shift in production to a foreign country followed by increased imports of articles like or directly competitive with the DRAM semiconductor wafers produced by the subject firm.

The amended notice applicable to TA-W-64,401 is hereby issued as follows:

“All workers of Qimonda 200MM Facility, including on-site leased workers from Tokyo Electron America, Nikon Precision, Inc., and Ebara Technologies, Inc., who became totally or partially separated from employment on or after November 11, 2007 through December 11, 2010, are eligible to apply for adjustment assistance under Section 223 of the Trade Act of 1974, and are also eligible to apply for alternative trade adjustment assistance under Section 246 of the Trade Act of 1974.”

Signed at Washington, DC, this 3rd day of March 2009.
Elliott S. Kushner,
Certifying Officer, Division of Trade Adjustment Assistance.

[FR Doc. E9-5179 Filed 3-10-09; 8:45 am]

BILLING CODE 4510-FN-P